ENVIRONMENTAL PROTECTION AGENCY

40 CFR Part 271

[EPA-R09-2018-RCRA-0267; FRL-9982-86—Region 9]

Hawaii: Final Authorization of State Hazardous Waste Management Program Revisions

AGENCY: Environmental Protection Agency (EPA).

ACTION: Final rule.

SUMMARY: The Environmental Protection Agency (EPA) is granting final authorization of changes to Hawaii's hazardous waste program submitted to EPA in the authorization application. As a result of EPA's authorization, Hawaii's revised program will become part of the authorized state hazardous waste program, and therefore will be federally enforceable. The Agency published a proposed rule on June 25, 2018, and provided for public comment. No substantive comments were received that were relevant to our proposed action.

DATES: This final authorization is effective August 28, 2018.

FOR FURTHER INFORMATION CONTACT: Laurie Amaro, phone number: 415-972-3364, email: amaro.laurie@epa.gov.

SUPPLEMENTARY INFORMATION:

A. Authorization of Revisions to Hawaii's Hazardous Waste Program

On December 13, 2017, Hawaii submitted a final complete program revision application (with subsequent corrections) seeking authorization in accordance with 40 CFR 271.21. Having received no public comments relevant to our proposed authorization, we have determined that Hawaii's hazardous waste program revisions satisfy all requirements necessary to qualify for final authorization. For a list of rules that become effective with this final action, please see the proposed rule published in the Federal Register (83 FR 29520, June 25, 2018).

B. What is codification and is EPA codifying Hawaii's hazardous waste program as authorized in this rule?

Codification is the process of placing a state's statutes and regulations that comprise the state's authorized hazardous waste program into the Code of Federal Regulations. EPA does this by referencing the authorized state rules in 40 CFR part 272. EPA is not codifying the authorization of Hawaii's revisions as part of today's action.

C. Statutory and Executive Order Reviews

This final authorization revises Hawaii's authorized hazardous waste management program pursuant to RCRA section 3006 and imposes no requirements other than those currently imposed by state law. For further information on how this authorization complies with applicable executive orders and statutory provisions, please see the proposed rule published in the Federal Register (83 FR 29520, June 25, 2018).

List of Subjects in 40 CFR Part 271

Environmental protection, Administrative practice and procedure, Confidential business information, Hazardous waste, Hazardous waste transportation, Incorporation by reference, Intergovernmental relations, Penalties, Reporting and recordkeeping requirements.

Authority: This action is issued under the authority of sections 2002(a), 3006, and 7004(b) of the Solid Waste Disposal Act as amended, 42 U.S.C. 6912(a), 6926, and 6974(b).

Dated: August 14, 2018.
Deborah Jordan,
Acting Regional Administrator, Region 9.

[FR Doc. 2018-18527 Filed 8-27-18; 8:45 am]

BILLING CODE 6560-50-P